DEPARTMENT OF HOMELAND SECURITY

Federal Emergency Management Agency

44 CFR Part 64

[Docket ID FEMA-2010-0003; Internal Agency Docket No. FEMA-8115]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region IV |  |  |  |
Alabama:
Cherokee, City of, Colbert County | 010208 | January 17, 1974, Emerg; September 28, 1979, Reg; February 17, 2010, Susp. | Apr. 17, 2010 | Apr. 17, 2010.
Colbert County, Unincorporated Areas | 010318 | July 9, 1981, Emerg; July 9, 1981, Reg; February 17, 2010, Susp. | ......do* | Do.
Dallas County, Unincorporated Areas | 010063 | April 11, 1975, Emerg; September 29, 1986, Reg; February 17, 2010, Susp. | ......do | Do.
Leighton, City of, Colbert County | 010046 | January 17, 1974, Emerg; August 19, 1985, Reg; February 17, 2010, Susp. | ......do | Do.
Littleville, Town of, Colbert County | 010330 | October 25, 1977, Emerg; November 24, 1978, Reg; February 17, 2010, Susp. | ......do | Do.
Muscle Shoals, City of, Colbert County | 010047 | January 30, 1974, Emerg; December 15, 1977, Reg; February 17, 2010, Susp. | ......do | Do.
Selma, City of, Dallas County | 010065 | May 7, 1974, Emerg; March 4, 1986, Reg; February 17, 2010, Susp. | ......do | Do.
Sheffield, City of, Colbert County | 010048 | January 10, 1974, Emerg; December 15, 1977, Reg; February 17, 2010, Susp. | ......do | Do.
Tuscumbia, City of, Colbert County | 010049 | November 27, 1973, Emerg; December 1, 1977, Reg; February 17, 2010, Susp. | ......do | Do.
Valley Grande, City of, Dallas County | 010312 | N/A, Emerg; June 8, 2004, Reg; February 17, 2010, Susp. | ......do | Do.
Kentucky:
Clay City, City of, Powell County | 210195 | March 22, 1976, Emerg; September 6, 1989, Reg; February 17, 2010, Susp. | ......do | Do.
Powell County, Unincorporated Areas | 210194 | November 1, 1976, Emerg; September 27, 1985, Reg; February 17, 2010, Susp. | ......do | Do.
Springfield, City of, Washington County | 210220 | June 4, 1975, Emerg; July 17, 1986, Reg; February 17, 2010, Susp. | ......do | Do.
Stanton, City of, Powell County | 210196 | July 7, 1975, Emerg; January 16, 1987, Reg; February 17, 2010, Susp. | ......do | Do.
Mississippi:
Oktibbeha County, Unincorporated Areas | 280277 | April 23, 1979, Emerg; June 19, 1989, Reg; February 17, 2010, Susp. | ......do | Do.
Starkville, City of, Oktibbeha County | 280124 | December 10, 1974, Emerg; February 18, 1981, Reg; February 17, 2010, Susp. | ......do | Do.
Region V |  |  |  |
Michigan:
Augusta, Village of, Kalamazoo County | 260312 | May 20, 1975, Emerg; March 15, 1982, Reg; February 17, 2010, Susp. | ......do | Do.
Comstock, Township of, Kalamazoo County | 260427 | January 18, 1977, Emerg; November 17, 1982, Reg; February 17, 2010, Susp. | ......do | Do.
Cooper, Township of, Kalamazoo County | 260428 | May 6, 1977, Emerg; September 28, 1979, Reg; February 17, 2010, Susp. | ......do | Do.
Kalamazoo, City of, Kalamazoo County | 260315 | December 26, 1974, Emerg; May 1, 1985, Reg; February 17, 2010, Susp. | ......do | Do.
Oshtemo, Charter Township of, Kalamazoo County | 260736 | May 12, 1983, Emerg; May 25, 1984, Reg; February 17, 2010, Susp. | ......do | Do.
Portage, City of, Kalamazoo County | 260577 | May 20, 1976, Emerg; May 16, 1983, Reg; February 17, 2010, Susp. | ......do | Do.
Richland, Township of, Kalamazoo County | 260885 | March 31, 1992, Emerg; May 19, 1992, Reg; February 17, 2010, Susp. | ......do | Do.
Ross, Township of, Kalamazoo County | 260624 | July 24, 1975, Emerg; March 15, 1982, Reg; February 17, 2010, Susp. | ......do | Do.
Vicksburg, Village of, Kalamazoo County | 260578 | November 10, 1976, Emerg; July 2, 1987, Reg; February 17, 2010, Susp. | ......do | Do.
Ohio:
Cincinnati, City of, Hamilton County | 390210 | June 27, 1973, Emerg; October 15, 1982, Reg; February 17, 2010, Susp. | ......do | Do.
Greenhills, Village of, Hamilton County | 390219 | May 6, 1975, Emerg; September 1, 1993, Reg; February 17, 2010, Susp. | ......do | Do.
Milford, City of, Hamilton, Clermont Counties | 390227 | April 15, 1975, Emerg; January 16, 1981, Reg; February 17, 2010, Susp. | ......do | Do.
North Hampton, Village of, Clark County | 390679 | July 3, 1978, Emerg; September 24, 1984, Reg; February 17, 2010, Susp. | ......do | Do.
Wisconsin:
Biron, Village of, Wood County | 555545 | April 2, 1971, Emerg; May 25, 1973, Reg; February 17, 2010, Susp. | ......do | Do.
Marshfield, City of, Wood, Marathon Counties | 550515 | February 18, 1975, Emerg; October 6, 2009, Reg; February 17, 2010, Susp. | ......do | Do.
Nekoosa, City of, Wood County | 550516 | May 16, 1975, Emerg; July 16, 1987, Reg; February 17, 2010, Susp. | ......do | Do.
Pittsville, City of, Wood County | 550517 | March 10, 1975, Emerg; November 6, 1991, Reg; February 17, 2010, Susp. | ......do | Do.
Port Edwards, Village of, Wood County | 555572 | July 2, 1971, Emerg; April 13, 1973, Reg; February 17, 2010, Susp. | ......do | Do.
Region VI
New Mexico:
Gallup, City of, McKinley County | 350042 | August 6, 1973, Emerg; March 1, 1978, Reg; February 17, 2010, Susp. | ......do | Do.
McKinley County, Unincorporated Areas | 350039 | May 9, 2007, Emerg; N/A, Reg; February 17, 2010, Susp. | ......do | Do.
Zuni, Pueblo of, McKinley, Cibola, Catron Counties | 350143 | December 21, 1978, Emerg; September 4, 1987, Reg; February 17, 2010, Susp. | ......do | Do.
Texas:
Copperas Cove, City of, Coryell, Bell, Lampasas Counties | 480155 | July 3, 1975, Emerg; November 21, 1978, Reg; February 17, 2010, Susp. | ......do | Do.
Gatesville, City of, Coryell County | 480156 | December 18, 1974, Emerg; September 30, 1981, Reg; February 17, 2010, Susp. | ......do | Do.
McGregor, City of, Coryell County | 480459 | April 7, 1975, Emerg; February 1, 1979, Reg; February 17, 2010, Susp. | ......do | Do.
Oglesby, City of, Coryell County | 480769 | February 5, 2001, Emerg; November 1, 2007, Reg; February 17, 2010, Susp. | ......do | Do.
Region VIII
Wyoming:
Bear River, Town of, Uinta County | 560103 | N/A, Emerg; October 12, 2001, Reg; February 17, 2010, Susp. | ......do | Do.
Evanston, City of, Uinta County | 560054 | March 23, 1977, Emerg; January 15, 1988, Reg; February 17, 2010, Susp. | ......do | Do.
Mountain View, Town of, Uinta County | 560092 | August 25, 1977, Emerg; July 4, 1989, Reg; February 17, 2010, Susp. | ......do | Do.
Uinta County, Unincorporated Areas | 560053 | January 2, 1976, Emerg; December 15, 1978, Reg; February 17, 2010, Susp. | ......do | Do.
Region X
Oregon:
Douglas County, Unincorporated Areas | 410059 | December 3, 1971, Emerg; December 15, 1978, Reg; February 17, 2010, Susp. | ......do | Do.
Drain, City of, Douglas County | 410061 | August 1, 1975, Emerg; August 1, 1979, Reg; February 17, 2010, Susp. | ......do | Do.
Elkton, City of, Douglas County | 410062 | January 14, 1976, Emerg; September 5, 1979, Reg; February 17, 2010, Susp. | ......do | Do.
Glendale, City of, Douglas County | 410063 | February 18, 1975, Emerg; September 29, 1978, Reg; February 17, 2010, Susp. | ......do | Do.
Myrtle Creek, City of, Douglas County | 410064 | January 14, 1972, Emerg; February 15, 1978, Reg; February 17, 2010, Susp. | ......do | Do.
Oakland, City of, Douglas County | 410271 | November 1, 1976, Emerg; June 19, 1985, Reg; February 17, 2010, Susp. | ......do | Do.
Reedsport, City of, Douglas County | 410065 | May 13, 1975, Emerg; April 3, 1984, Reg; February 17, 2010, Susp. | ......do | Do.
Riddle, City of, Douglas County | 410066 | July 22, 1975, Emerg; August 1, 1979, Reg; February 17, 2010, Susp. | ......do | Do.
Roseburg, City of, Douglas County | 410067 | December 23, 1971, Emerg; June 1, 1977, Reg; February 17, 2010, Susp. | ......do | Do.
Sutherlin, City of, Douglas County | 410275 | N/A, Emerg; May 21, 1997, Reg; February 17, 2010, Susp. | ......do | Do.
Yoncalla, City of, Douglas County | 410069 | July 21, 1975, Emerg; August 21, 1978, Reg; February 17, 2010, Susp. | ......do | Do.
*do = Ditto.
Code for reading third column: Emerg.—Emergency; Reg.—Regular; Susp.—Suspension.

Dated: January 27, 2010.
Sandra K. Knight,
Deputy Assistant Administrator for Mitigation, Department of Homeland Security, Federal Emergency Management Agency.

[FR Doc. 2010-2487 Filed 2-4-10; 8:45 am]

BILLING CODE 9110-12-P